DEPARTMENT OF TRANSPORTATION

Federal Aviation Administration

Notice of Submission Deadline for International Slots for the Summer 2002 Scheduling Season

AGENCY: Department of Transportation, FAA.

ACTION: Notice of submission deadline.

SUMMARY: On October 1, 1999, the FAA amended the regulations governing takeoff and landing slots and slot allocation procedures at certain High Density Traffic Airports as a result of the “Open Transborder” Agreement between the Government of the United States and the Government of Canada. One element of this final rule established that the deadline for submission of requests for international slots will be published in a Federal Register notice for each scheduling season. The purpose of the amendment is for the FAA deadline for international slot requests to coincide with the International Air Transport Association deadline for submission on international requests. For the Summer 2001 Scheduling Season, the IATA submission deadline is October 14, 2001, which falls on a Sunday. Therefore, the FAA announces in this notice that the deadline for submitting requests for international slots for allocation under 14 CFR 93.217 is October 15, 2001.

DATES: Requests for international slots must be submitted no later than October 15, 2001.

ADDRESSES: Requests may be submitted by mail to Slot Administration Office, AGC-230, Office of the Chief Counsel, 800 Independence Ave., SW., Washington, DC 20591; facsimile: 202-267-7668; ARINC: DCAYAXD; email address: 9-AWA-slotadmin@faa.gov.

FOR FURTHER INFORMATION CONTACT: Lorelei Peter, Airspace and Air Traffic Law Branch, Regulations Division, Office of the Chief Counsel, Federal Aviation Administration, 800 Independence Avenue, SW., Washington, DC 20591; telephone number: 202-267-3073.

Issued in Washington, DC on August 22, 2001.
David G. Leitch,
Chief Counsel.

[FR Doc. 01-21720 Filed 8-27-01; 8:45 am]

BILLING CODE 4910-13-M